DEPARTMENT OF THE INTERIOR

Bureau of Land Management

[LLWY-957400-12-L14200000-BJ0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and the U.S. Forest Service, and are necessary for the management of resources. The lands surveyed are:

The plat and field notes representing the dependent resurvey of portions of the west boundary and subdivisional lines, and the survey of the subdivision of section 18, Township 22 North, Range 81 West, Sixth Principal Meridian, Wyoming, Group No. 842, was accepted September 29, 2011.

The plat and field notes representing the dependent resurvey of a portion of the north boundary, a portion of the subdivisional lines and the subdivision of sections 4 and 10, Township 57 North, Range 101 West, Sixth Principal Meridian, Wyoming, Group No. 816, was accepted October 4, 2011.

The supplemental plat showing amended lottings, Township 41 North, Range 71 West, Sixth Principal Meridian, Wyoming, Group No. 852, was accepted October 12, 2011 and based upon the dependent resurvey plat of Township 41 North, Range 71 West, accepted April 8, 1981 and supplemental plat of Township 41 North, Range 71 West, accepted December 4, 1985.

The plat representing the entire record of the corrective dependent resurvey of a portion of the subdivisional lines designed to restore the corners in their true original locations according to the best available evidence, Township 17 North, Range 93 West, Sixth Principal Meridian, Wyoming, Group No. 822, was accepted October 13, 2011.

The plat and field notes representing the dependent resurvey of a portion of the west boundary and a portion of the subdivisional lines, and the subdivision of section 32, Township 20 North, Range 75 West, Sixth Principal Meridian, Wyoming, Group No. 828, was accepted October 13, 2011.

The supplemental plat representing the segregation of Tract 46A from Tracts 46 and 47, Township 41 North, Range 117 West, Sixth Principal Meridian, Wyoming, Group No. 814, was accepted November 3, 2011.

The supplemental plat representing the segregation of Tract 46B from Tract 46, Township 41 North, Range 117 West, Sixth Principal Meridian, Wyoming, Group No. 814, was accepted November 3, 2011.

The plat and field notes representing the dependent resurvey of portions of the east boundary, a portion of the west boundary, and portions of the north boundary and subdivisional lines, Township 31 North, Range 107 West, Sixth Principal Meridian, Wyoming, Group No. 821, was accepted November 3, 2011.

The plat and field notes representing the dependent resurvey of a portion of the north and west boundaries, a portion of the subdivisional lines, and a portion of the adjusted meanders of the shoreline of Cooper Lake, Township 19 North, Range 75 West, Sixth Principal Meridian, Wyoming, Group No. 828, was accepted November 3, 2011.

The field notes representing the remonumentation of the ¼ sec. cor. of secs. 31 and 32, Township 44 North, Range 76 West, Sixth Principal Meridian, Wyoming, Group No. 850, was accepted November 3, 2011.

The plat and field notes representing the dependent resurvey of a portion of the subdivisional lines and the survey of the subdivision of section 33, Township 26 North, Range 105 West, Sixth Principal Meridian, Wyoming, Group No. 823, was accepted November 3, 2011.

The plat and field notes representing the dependent resurvey of a portion of the west boundary, a portion of the subdivisional lines, the subdivision of section 18, and the metes and bounds survey of Lots 5 and 6, section 18, Township 34 North, Range 54 West, Sixth Principal Meridian, Nebraska, Group No. 174, was accepted November 30, 2011.

The plat and field notes representing the dependent resurvey of a portion of the subdivisional lines, the subdivision of section 13, and the metes and bounds survey of Lot 1, section 13, Township 34 North, Range 55 West, Sixth Principal Meridian, Nebraska, Group No. 174, was accepted November 30, 2011.

The field notes representing the remonumentation of the ¼ sec. cor. of secs. 15 and 16, and the ¼ sec. cor. of secs. 16 and 21, Township 13 North, Range 83 West, Sixth Principal Meridian, Wyoming, Group No. 624, was accepted November 30, 2011.

The plat and field notes representing the retracement and dependent resurvey of a portion of the subdivisional lines and the survey of the subdivision of section 34, Township 34 North, Range 110 West, Sixth Principal Meridian, Wyoming, Group No. 827, was accepted November 30, 2011.

The plat and field notes representing the dependent resurvey of a portion of the subdivisional lines, and the subdivision of section 32, Township 23 North, Range 71 West, Sixth Principal Meridian, Wyoming, Group No. 831, was accepted November 30, 2011.

Copies of the preceding described plats and field notes are available to the public at a cost of $1.10 per page.

Dated: January 19, 2012.
John P. Lee,
Chief Cadastral Surveyor, Division of Support Services.

[FR Doc. 2012-1453 Filed 1-24-12; 8:45 am]

BILLING CODE 4310-22-P